ENVIRONMENTAL PROTECTION AGENCY

[FRL OP-OFA-162]

Environmental Impact Statements; Notice of Availability

Responsible Agency: Office of Federal Activities, General Information 202-564-5632 or https://www.epa.gov/nepa.

Weekly receipt of Environmental Impact Statements (EIS)

Filed January 6, 2025 10 a.m. EST Through January 13, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250013, Draft, TVA, AL, Hillsboro Solar, Comment Period Ends: 03/03/2025, Contact: Elizabeth Smith 865-632-3053.

EIS No. 20250014, Draft, DOE, KS, DOE/EIS-0554: Phase 1 of the Grain Belt Express Transmission Project, Comment Period Ends: 03/03/2025, Contact: Todd Stribley 301-525-5944.

EIS No. 20250015, Draft, NMFS, FL, Amendment 59 to the Fishery Management Plan for the Snapper-Grouper Fishery of the South Atlantic Region, Comment Period Ends: 03/03/2025, Contact: Nikhil Mehta 727-551-5098.

EIS No. 20250016, Final, TVA, IL, Sugar Camp Energy, LLC Mine No. 1 Significant Boundary Revision 8, Review Period Ends: 02/18/2025, Contact: Elizabeth Smith 865-632-3053.

Dated: January 13, 2025.
Mark Austin,
Acting Director, NEPA Compliance Division, Office of Federal Activities.

[FR Doc. 2025-01130 Filed 1-16-25; 8:45 am]

BILLING CODE 6560-50-P